DEPARTMENT OF DEFENSE

Office of the Secretary

[Req No. OS-2024-00034-FR]

Notice of Termination of the Intent To Prepare an Environmental Impact Statement for Construction and Operation of a Homeland Defense Radar in Hawaii

AGENCY: Missile Defense Agency (MDA), Department of Defense (DoD).

ACTION: Notice of termination.

SUMMARY: The DoD postponed the Homeland Defense Radar-Hawaii (HDR-H) in 2019, and no funds have been appropriated for the program since fiscal year 2022. The DoD is not moving forward with the HDR-H. As such, the MDA is terminating preparation of the Environmental Impact Statement (EIS) for the construction and operation of an HDR-H.

DATES: This termination takes effect on November 8, 2023.

FOR FURTHER INFORMATION CONTACT: Mr. Mark Wright, MDA Public Affairs, at 571-231-8212 or by email to mda.info@mda.mil.

SUPPLEMENTARY INFORMATION: This notice advises the public that the MDA, as lead agency, effective immediately, no longer intends to prepare an environmental impact statement for construction and operation of an HDR-H. Therefore, the Notice of Intent announced in the Federal Register on June 1, 2018 (83 FR 25442-25443) is terminated.

This notice is published in accordance with sections 1503.1 and 1506.6 of the Council on Environmental Quality's Regulations (40 CFR parts 1500-1508) implementing the procedural requirements of the National Environmental Policy Act (NEPA), as amended (42 U.S.C. 4321 et seq.), and the MDA's NEPA Implementing Procedures (79 FR 46410, August 8, 2014; updated on January 29, 2018).

Dated: November 2, 2023.
Aaron T. Siegel,
Alternate OSD Federal Register Liaison Officer, Department of Defense.

[FR Doc. 2023-24585 Filed 11-7-23; 8:45 am]

BILLING CODE 6001-FR-P